DEPARTMENT OF HEALTH AND HUMAN SERVICES

Centers for Medicare & Medicaid Services

[CMS-1486-N]

Medicare Program; Announcement of New Members of the Advisory Panel on Ambulatory Payment Classification (APC) Groups

AGENCY: Centers for Medicare & Medicaid Services (CMS), HHS.

ACTION: Notice.

SUMMARY: The purpose of the Advisory Panel on Ambulatory Payment Classification (APC) Groups (the Panel) is to review the APC groups and their associated weights and to advise the Secretary of the Department of Health and Human Services (HHS) and the Administrator of the Centers for Medicare and Medicaid Services (CMS) concerning the clinical integrity of the APC groups and their associated weights. The advice provided by the Panel will be considered as CMS prepares its annual updates of the hospital Outpatient Prospective Payment System (OPPS) through rulemaking. This notice announces the new members selected to serve on the Panel.

FOR FURTHER INFORMATION CONTACT: For inquiries about the Panel, please contact the Designated Federal Officer (DFO): Shirl Ackerman-Ross, DFO, CMS, CMM, HAPG, DOC, 7500 Security Boulevard, Mail Stop C4-05-17, Baltimore, MD 21244-1850. Phone (410) 786-4474.

E-mail Address for comments is: APCPanel@cms.hhs.gov. News media representatives must contact our Public Affairs Office at (202) 690-6145.

Advisory Committees' Information Lines: The CMS Advisory Committees' Information Line is 1-877-449-5659 (toll free) and (410) 786-9379 (local).

Web Sites: For additional information on APC meeting agendas and updates to the Panel's activities, search our Web site at: http://www.cms.hhs.gov/faca/apc/default.asp. To obtain Charter copies, search our Web site at http://www.cms.hhs.gov/faca or e-mail the Panel DFO.

SUPPLEMENTARY INFORMATION:

I. Background

The Secretary of the Department of Health and Human Services (HHS) (the Secretary) is required by section 1833(t)(9)(A) of the Social Security Act, as amended and redesignated by sections 201(h) and 202(a)(2) of the Medicare, Medicaid, and SCHIP Balanced Budget Refinement Act of 1999 (Pub. L. 106-113), respectively, to establish and consult with an expert, outside advisory panel on APC groups. The APC Panel meets up to three times annually to review the APC groups and to provide technical advice to the Secretary and the Administrator of the Centers for Medicare and Medicaid Services (CMS) (the Administrator) concerning the clinical integrity of the groups and their associated weights. All members must have technical expertise that will enable them to participate fully in the work of the Panel. The expertise encompasses hospital payment systems, hospital medical-care delivery systems, outpatient payment requirements, APCs, Physicians' Current Procedural Terminology Codes (CPTs), the use and payment of drugs and medical devices in the outpatient setting, and other forms of relevant expertise. It is not necessary that any one member be an expert in all areas.

We will consider the technical advice provided by the Panel as we prepare the final rule that updates the OPPS payment rates for the next calendar year. The Secretary re-chartered the Panel on November 1, 2004.

II. Announcement of New Members

The Panel may consist of a Chair and up to 15 representatives who are full-time employees (not consultants) of Medicare providers, which are subject to the OPPS. Panel members serve without compensation, according to an advance written agreement; however, travel, meals, lodging, and related expenses are reimbursed in accordance with standard Government travel regulations. CMS has a special interest for ensuring that women, minorities, and the physically challenged are adequately represented on the Panel.

The Secretary, or his designee, appoints new members to the Panel from among those candidates determined to have the required expertise. New appointments are made in a manner that ensures a balanced membership.

The Panel presently consists of the following members and a Chair:

• Edith Hambrick, M.D., J.D., Chair.

• Marilyn Bedell, M.S., R.N., O.C.N.

• Albert Brooks Einstein, Jr., M.D.

• Sandra J. Metzler, M.B.A., R.H.I.A., C.P.H.Q.

• Frank G. Opelka, M.D., F.A.C.S.

• Louis Potters, M.D., F.A.C.R.

• Lou Ann Schraffenberger, M.B.A., R.H.I.A., C.C.S.-P.

• Judie S. Snipes, R.N., M.B.A., F.A.C.H.E.

• Lynn R. Tomascik, R.N., M.S.N., C.N.A.A.

• Timothy Gene Tyler, Pharm.D.

On February 25, 2005, we published a notice in the Federal Register (70 FR 9336) requesting nominations to the Panel to replace the six Panel members whose terms expired on March 31, 2005. In order to obtain additional nominees whose expertise matched the needs of the Panel, we published a second notice in the Federal Register on April 8, 2005 (70 FR 18028) extending the deadline. As a result of these two notices, the six new 4-year appointments to the APC Panel effective August 17, 2005, and ending August 16, 2009, are as follows:

• Gloryanne Bryant, B.S., R.H.I.A., R.H.I.T., C.C.S.

• Hazel Kimmel, R.N., C.C.S., C.P.C.

• Thomas M. Munger, M.D., F.A.C.C.

• James V. Rawson, M.D.

• Kim Allan Williams, M.D., F.A.C.C., F.A.B.C.

• Robert Matthew Zwolak, M.D., Ph.D., F.A.C.S.

Authority: Section 1833(t) of the Act (42 U.S.C. 1395l(t)). The Panel is governed by the provisions of Pub. L. 92-463, as amended (5 U.S.C. Appendix 2).

(Catalog of Federal Domestic Assistance Program No. 93.773, Medicare—Hospital Insurance; and Program No. 93.774, Medicare—Supplementary Medical Insurance Program).

Dated: August 9, 2005.
Mark B. McClellan,
Administrator, Centers for Medicare & Medicaid Services.

[FR Doc. 05-16798 Filed 8-25-05; 8:45 am]

BILLING CODE 4120-03-P